DEPARTMENT OF TRANSPORTATION

Federal Aviation Administration

14 CFR Part 39

[Docket No. FAA-2021-0950; Project Identifier MCAI-2021-01075-T; Amendment 39-21803; AD 2021-23-05]

RIN 2120-AA64

Airworthiness Directives; Airbus SAS Airplanes

AGENCY: Federal Aviation Administration (FAA), DOT.

ACTION: Final rule; request for comments.

SUMMARY: The FAA is superseding Airworthiness Directive (AD) 2021-18-08, which applied to all Airbus SAS Model A319-171N airplanes; Model A320-271N, -272N, and -273N airplanes; and Model A321-271N, -272N, -271NX, and -272NX airplanes. AD 2021-18-08 required repetitive inspections of the pylon/engine interface rods for damage, and applicable corrective actions, as specified in European Union Aviation Safety Agency (EASA) AD 2021-0177. AD 2021-18-08 also provided for limited installation of affected parts under certain conditions. Since the FAA issued AD 2021-18-08, operators reported that the requirements of EASA AD 2021-0177 were unclear. This AD retains the requirements of AD 2021-18-08, with clarified instructions, as specified in an EASA AD, which is incorporated by reference. The FAA is issuing this AD to address the unsafe condition on these products.

DATES: This AD is effective November 23, 2021.

The Director of the Federal Register approved the incorporation by reference of a certain publication listed in this AD as of November 23, 2021.

The FAA must receive comments on this AD by December 23, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this material at the FAA, Airworthiness Products Section, Operational Safety Branch, 2200 South 216th St., Des Moines, WA. For information on the availability of this material at the FAA, call 206-231-3195. It is also available in the AD docket at https://www.regulations.gov by searching for and locating Docket No. FAA-2021-0950.

Examining the AD Docket

You may examine the AD docket at https://www.regulations.gov by searching for and locating Docket No. FAA-2021-0950; or in person at Docket Operations between 9 a.m. and 5 p.m., Monday through Friday, except Federal holidays. The AD docket contains this AD, the mandatory continuing airworthiness information (MCAI), any comments received, and other information. The street address for Docket Operations is listed above.

FOR FURTHER INFORMATION CONTACT: Sanjay Ralhan, Aerospace Engineer, Large Aircraft Section, FAA, International Validation Branch, 2200 South 216th St., Des Moines, WA 98198; telephone and fax 206-231-3223; email Sanjay.Ralhan@faa.gov.

SUPPLEMENTARY INFORMATION:

Comments Invited

The FAA invites you to send any written data, views, or arguments about this final rule. Send your comments to an address listed under ADDRESSES. Include “Docket No. FAA-2021-0950; Project Identifier MCA-2021-01075-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Sanjay Ralhan, Aerospace Engineer, Large Aircraft Section, FAA, International Validation Branch, 2200 South 216th St., Des Moines, WA 98198; telephone and fax

206-231-3223; email Sanjay.Ralhan@faa.gov. Any commentary that the FAA receives which is not specifically designated as CBI will be placed in the public docket for this rulemaking.

Background

The FAA issued AD 2021-18-08, Amendment 39-21709 (86 FR 48296, August 30, 2021) (AD 2021-18-08), which applied to all Airbus SAS Model A319-171N airplanes; Model A320-271N, -272N, and -273N airplanes; and Model A321-271N, -272N, -271NX, and -272NX airplanes. AD 2021-18-08 required repetitive inspections of the pylon/engine interface rods for damage, and applicable corrective actions, as specified in EASA AD 2021-0177, dated July 23, 2021 (EASA AD 2021-0177). AD 2021-18-08 also provided for limited installation of affected parts under certain conditions. The FAA issued AD 2021-18-08 to address damage that could lead to rupture of the rod-eye ends, which could result in fuel and hydraulic pipe chafing, consequent fuel or hydraulic leakage, and possible fire.

Actions Since AD 2021-18-08 Was Issued

Since the FAA issued AD 2021-18-08, operators reported that the requirements of EASA AD 2021-0177 were unclear.

EASA, which is the Technical Agent for the Member States of the European Union, has issued EASA AD 2021-0177R1, dated September 21, 2021 (EASA AD 2021-0177R1) (also referred to as the MCAI), to correct an unsafe condition for all Airbus SAS Model A319-171N, A320-271N, A320-272N, A320-273N, A321-271N, A321-272N, A321-271NX, and A321-272NX airplanes. EASA AD 2021-0177R1 revised EASA AD 2021-0177, dated July 23, 2021 (which corresponded to FAA AD 2021-18-08), to clarify the requirements.

This AD was prompted by a report of damage found at the rod-eye ends of two original rods installed to maintain an interface plate between the pylon and nacelle, and the need to clarify certain existing requirements. The FAA is issuing this AD to address damage that could lead to rupture of the rod-eye ends, which could result in fuel and hydraulic pipe chafing, consequent fuel or hydraulic leakage, and possible fire. See the MCAI for additional background information.

Related Service Information Under 1 CFR Part 51

EASA AD 2021-0177R1 specifies procedures for repetitive detailed inspections for damage (including hole damage, a crack, or an abnormal deformation) of the left- and right-hand pylon/engine interface rod ends of the rod attachment fittings, and the interface plate and upper support brackets, measurement of the play/gap of the pylon/engine interface upper and lower rod ends, and applicable corrective actions including rod replacement. EASA AD 2021-0177R1 also provides for limited installation of affected parts under certain conditions. This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI described above. The FAA is issuing this AD after determining that the unsafe condition described previously is likely to exist or develop on other products of these same type designs.

Requirements of This AD

This AD requires accomplishing the actions specified in EASA AD 2021-0177R1 described previously, except for any differences identified as exceptions in the regulatory text of this AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2021-0177R1 is incorporated by reference in this AD. This AD requires compliance with EASA AD 2021-0177R1 in its entirety through that incorporation, except for any differences identified as exceptions in the regulatory text of this AD. Using common terms that are the same as the heading of a particular section in EASA AD 2021-0177R1 does not mean that operators need comply only with that section. For example, where the AD requirement refers to “all required actions and compliance times,” compliance with this AD requirement is not limited to the section titled “Required Action(s) and Compliance Time(s)” in EASA AD 2021-0177R1. Service information required by EASA AD 2021-0177R1 for compliance will be available at https://www.regulations.gov by searching for and locating Docket No. FAA-2021-0950 after this AD is published.

Interim Action

The FAA considers this AD interim action. If final action is later identified, the FAA might consider further rulemaking then.

FAA's Justification and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because rupture of the rod-eye ends could result in fuel and hydraulic pipe chafing, consequent fuel or hydraulic leakage, and possible fire. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 204 airplanes of U.S. registry. The FAA estimates the following costs to comply with this AD:

Estimated Costs for Required Actions *
Labor cost | Parts cost | Cost per product | Cost on U.S. operators
Up to 6 work-hours × $85 per hour = Up to $510 | $0 | Up to $510 | Up to $104,040.
* Table does not include estimated costs for reporting.

The FAA estimates that it takes about 1 work-hour per product to comply with the initial reporting requirement in this AD. The average labor rate is $85 per hour. Based on these figures, the FAA estimates the cost of reporting the initial inspection results to be $17,340 for U.S. operators, or $85 per product.

The FAA estimates the following costs to do any necessary on-condition actions that would be required based on the results of any required or alternative actions. The FAA has no way of determining the number of aircraft that might need these on-condition actions:

Estimated Costs of On-Condition Replacements
Labor cost | Parts cost | Cost per product
8 work-hours × $85 per hour = $680 | $0 | $680

The FAA estimates that it would take 1 work-hour per product to comply with the on-condition reporting requirement in this AD. The average labor rate is $85 per hour. Based on these figures, the FAA estimates the cost of reporting subsequent positive inspection results to be $85 per product for U.S. operators.

The FAA has received no definitive data on which to base the cost estimates for the other on-condition actions specified in this AD.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-18-08, Amendment 39-21709 (86 FR 48296, August 30, 2021); and

b. Adding the following new AD:

2021-23-05 Airbus SAS: Amendment 39-21803; Docket No. FAA-2021-0950; Project Identifier MCAI-2021-01075-T.

(a) Effective Date

This airworthiness directive (AD) is effective November 23, 2021.

(b) Affected ADs

This AD replaces AD 2021-18-08, Amendment 39-21709 (86 FR 48296, August 30, 2021) (AD 2021-18-08).

(c) Applicability

This AD applies to all Airbus SAS Model A319-171N airplanes; Model A320-271N, -272N, and -273N airplanes; and Model A321-271N, -272N, -271NX, and -272NX airplanes, certificated in any category.

(d) Subject

Air Transport Association (ATA) of America Code 29, Hydraulic power.

(e) Unsafe Condition

This AD was prompted by a report of damage found at the rod-eye ends of two original rods installed to maintain an interface plate between the pylon and nacelle, and the need to clarify certain existing requirements from AD 2021-18-08. The FAA is issuing this AD to address damage that could lead to rupture of the rod-eye ends, which could result in fuel and hydraulic pipe chafing, consequent fuel or hydraulic leakage, and possible fire.

(f) Compliance

Comply with this AD within the compliance times specified, unless already done.

(g) Requirements

Except as specified in paragraph (h) of this AD: Comply with all required actions and compliance times specified in, and in accordance with, European Union Aviation Safety Agency (EASA) AD 2021-0177R1, dated September 21, 2021 (EASA AD 2021-0177R1).

(h) Exceptions to EASA AD 2021-0177R1

(1) Where EASA AD 2021-0177R1 refers to “06 August 2021 [the effective date of the original issue of this AD],” this AD requires using September 14, 2021 (the effective date of AD 2021-18-08).

(2) Where EASA AD 2021-0177R1 refers to its effective date, this AD requires using the effective date of this AD.

(3) Paragraph (4) of EASA AD 2021-0177R1 specifies to “contact Airbus for approved instructions and, within the compliance time(s) specified in those instructions, accomplish those instructions accordingly” as an alternative corrective action if a defect is detected during inspection of an updated rod. As of the effective date of this AD, however, for that alternative, this AD requires repair of the defect before further flight using a method approved by the Manager, Large Aircraft Section, International Validation Branch, FAA; or EASA; or Airbus SAS's EASA Design Organization Approval (DOA). If approved by the DOA, the approval must include the DOA-authorized signature.

(4) The “Remarks” section of EASA AD 2021-0177R1 does not apply to this AD.

(i) Clarification of EASA AD 2021-0177R1

Paragraph (8) of EASA AD 2021-0177R1 allows installation of an affected part if it is serviceable and inspected within 750 flight hours after installation. The Definitions section of EASA AD 2021-0177R1 requires that a serviceable affected part pass an inspection before the next flight after installation. Therefore, this AD allows installation of an affected serviceable part after the effective date of this AD if it is inspected before further flight after installation and 750 flight hours thereafter. All other provisions of paragraph (8) and Note 2 of EASA AD 2021-0177R1 apply to this AD, including the repetitive inspection of that part as required by paragraph (1) or (2) of EASA AD 2021-0177R1.

(j) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Sanjay Ralhan, Aerospace Engineer, Large Aircraft Section, FAA, International Validation Branch, 2200 South 216th St., Des Moines, WA 98198; telephone and fax 206-231-3223; email Sanjay.Ralhan@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2021-0177R1, dated September 21, 2021.

(ii) [Reserved]

(3) For EASA AD 2021-0177R1, contact EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket at https://www.regulations.gov by searching for and locating Docket No. FAA-2021-0950.

(5) You may view this material that is incorporated by reference at the National Archives and Records Administration (NARA). For information on the availability of this material at NARA, email fr.inspection@nara.gov, or go to: https://www.archives.gov/federal-register/cfr/ibr-locations.html.

Issued on October 27, 2021.
Lance T. Gant,
Director, Compliance & Airworthiness Division, Aircraft Certification Service.

[FR Doc. 2021-24447 Filed 11-4-21; 11:15 am]

BILLING CODE 4910-13-P